DEPARTMENT OF HOMELAND SECURITY

Federal Emergency Management Agency

[Docket ID FEMA-2022-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having in effect in order to qualify or remain qualified for participation in the Federal Emergency Management Agency's (FEMA's) National Flood Insurance Program (NFIP).

DATES: The date of December 15, 2022 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Department of Homeland Security, Federal Emergency Management Agency.

Community | Community map repository address
Charlotte County, Florida and Incorporated Areas
Docket No.: FEMA-B-2074
City of Punta Gorda | City Hall, 326 West Marion Avenue, Punta Gorda, FL 33950.
Unincorporated Areas of Charlotte County | Charlotte County Building Department, 18400 Murdock Circle, Port Charlotte, FL 33948.
Walton County, Georgia and Incorporated Areas
Docket No.: FEMA-B-2152
City of Good Hope | City Hall, 169 Highway 83, Good Hope, GA 30641.
City of Monroe | City Hall, 215 North Broad Street, Monroe, GA 30655.
City of Social Circle | City Hall, 166 North Cherokee Road, Social Circle, GA 30025.
Unincorporated Areas of Walton County | Walton County Planning and Development Office, 303 South Hammond Drive, Suite 98, Monroe, GA 30655.
Cerro Gordo County, Iowa and Incorporated Areas
Docket No.: FEMA-B-2162
City of Clear Lake | Public Works Office, 1419 2nd Avenue South, Clear Lake, IA 50428.
City of Mason City | City Hall, 10 1st Street Northwest, Mason City, IA 50401.
City of Ventura | City Hall, 101 Sena Street, Ventura, IA 50482.
Unincorporated Areas of Cerro Gordo County | Cerro Gordo County Courthouse, 220 North Washington Avenue, Mason City, Iowa 50401.
Dallas County, Iowa and Incorporated Areas
Docket No.: FEMA-B-2165
City of Adel | City Hall, 301 South 10th Street, Adel, IA 50003.
City of Van Meter | City Hall, 310 Mill Street, Van Meter, IA 50261.
City of Waukee | City Hall, 230 West Hickman Road, Waukee, IA 50263.
Unincorporated Areas of Dallas County | Dallas County Planning and Development Department, 907 Court Street, Adel, IA 50003.
Winnebago County, Iowa and Incorporated Areas
Docket No.: FEMA-B-2145
City of Leland | City Hall, 316 Walnut Street, Leland, IA 50453.
Unincorporated Areas of Winnebago County | Winnebago County Courthouse, 126 South Clark Street, Forest City, IA 50436.
Mackinac County, Michigan (All Jurisdictions)
Docket No.: FEMA-B-2128
City of Mackinac Island | City Hall, 7358 Market Street, Mackinac Island, MI 49757.
City of St. Ignace | City Hall, 396 North State Street, St. Ignace, MI 49781.
Sault Sainte Marie Tribe of the Chippewa Indians | Sault Tribe Administration Building, 523 Ashmun Street, Sault Sainte Marie, MI 49783.
Township of Bois Blanc | Bois Blanc Township Hall, 431 Sioux Avenue, Pointe Aux Pins, MI 49775.
Township of Brevort | Brevort Township Community Center, 4020 Church Road, Moran, MI 49760.
Township of Clark | Clark Township Hall, 207 North Blindline Road, Cedarville, MI 49719.
Township of Garfield | Garfield Township Hall, 6760 State Highway M-117, Engadine, MI 49827.
Township of Hendricks | Hendricks Township Hall, 5115 Hiawatha Trail, Naubinway, MI 49762.
Township of Hudson | Hudson Township Hall, 7961 Church Street, Rexton, MI 49762.
Township of Marquette | Marquette Township Hall, 7177 East James Street, Pickford, MI 49774.
Township of Moran | Moran Township Hall, 1362 West US-2, St. Ignace, MI 49781.
Township of Newton | Newton Township Hall, 6164 South Gould City Road, Gould City, MI 49838.
Township of St. Ignace | Township Hall, 4298 Gorman Road, St. Ignace, MI 49781.
City of Hopewell, Virginia (Independent City)
Docket No.: FEMA-B-2152
City of Hopewell | City Hall, 300 North Main Street, Hopewell, VA 23860.
City of Petersburg, Virginia (Independent City)
Docket No.: FEMA-B-2149
City of Petersburg | City Hall, 135 North Union Street, Petersburg, VA 23803.

[FR Doc. 2022-15915 Filed 7-25-22; 8:45 am]

BILLING CODE 9110-12-P